CONSUMER PRODUCT SAFETY COMMISSION

Sunshine Act Meeting

Time and Date: Friday, February 21, 2003, 10 a.m.

Location: Room 420, Bethesda Towers, 4330 East West Highway, Bethesda, Maryland.

Status: Open to the Public.

Matter to be Considered:

Product Registration Cards (Petition CP 01-1)

The staff will brief the Commission on Petition CP 01-1 submitted by the Consumer Federation of America (CFA) requesting that the Commission issue a rule requiring product registration cards with every product intended for children.

Certain members of the public have been invited to give oral presentations based on their written comments previously submitted to the Commission.

For a recorded message containing the latest agenda information, call (301) 504-7948.

Contact Person for Additional Information: Todd A. Stevenson, Office of the Secretary, 4330 East West Highway, Bethesda, MD 20207 (301) 504-7923.

Dated: February 11, 2003.
Todd A. Stevenson,
Secretary

[FR Doc. 03-3748 Filed 2-11-03; 2:16 pm]

BILLING CODE 6355-01-M